DEPARTMENT OF TRANSPORTATION

Federal Highway Administration

Environmental Impact Statement: Wake and Johnston Counties, NC

AGENCY: Federal Highway Administration (FHWA), DOT.

ACTION: Notice of Intent (NOI).

SUMMARY: The FHWA is issuing this notice to advise the public that an environmental impact statement will be prepared for a proposed project in Wake and Johnston Counties, North Carolina.

FOR FURTHER INFORMATION CONTACT: Mr. George Hoops, P.E., Major Projects Engineer, Federal Highway Administration, 310 Bern Avenue, Suite 410, Raleigh, North Carolina 27601-1418, Telephone: (919) 747-7022.

SUPPLEMENTARY INFORMATION: Pursuant to Title 23, Code of Federal Regulations, Part 771, Environmental Impact and Related Procedures, the FHWA, in cooperation with the North Carolina Turnpike Authority (NCTA), a division of the North Carolina Department of Transportation (NCDOT), will prepare an environmental impact statement (EIS) addressing the proposed completion of the Raleigh Outer Loop. The proposed study area boundary begins in Wake County at NC 55 in the vicinity of Apex and Holly Springs. The boundary extends southward along NC 55 and turns eastward to parallel NC 42, crossing into Johnston County near Benson Road (NC 50). The boundary turns northward near Clayton, extending to US 64/US 264 Bypass, in Knightdale. The study area includes southeastern limits of Raleigh and the southern limits of Garner and Cary. The proposed action is included in the 2035 Long Range Transportation Plan approved by the Capital Area Metropolitan Planning Organization (CAMPO).

This project is designated as three projects in the NCDOT State Transportation Improvement Program (STIP)—Projects R-2721, R-2828, and R-2829. These projects combine to form the southern and eastern portions of the Outer Loop around Raleigh and surrounding communities, completing the Outer Loop. The northern portion of the Outer Loop is open to traffic and the western portion, the Western Wake Freeway, is currently under construction. The southern portion of this project is proposed to tie into the Western Wake Freeway near Apex. The eastern portion of this project is proposed to tie into the northern portion of the Outer Loop at the US 64/US 264 Bypass in Knightdale. The EIS for the proposed action will consider alternatives that include improving existing roadways as well as alternatives that involve building a new location facility. Multiple alternative corridors for a new location facility may be evaluated. The analysis will also include a range of non-highway improvement alternatives, including the “No-Build” alternative (continuation of the existing condition), expanding transit service, transportation demand management (TDM), and transportation system management (TSM). As part of the EIS, NCTA will study the feasibility and impacts of developing the proposed project as a tolled facility.

Letters describing the proposed action and soliciting comments will be sent to appropriate Federal, State and local agencies. Scoping will occur over a series of meetings with the agencies and citizens informational workshops with the public. Information on the dates, times, and locations of the citizens informational workshops will be advertised in the local news media, and newsletters will be mailed to those on the project mailing list. If you wish to be placed on the mailing list, contact Jennifer Harris at the address listed below. The Draft EIS will be available for public and agency review and comment prior to the public hearing.

To ensure the full range of issues related to the proposed action are addressed and all significant issues identified, comments and suggestions are invited from all interested parties. Comments and questions concerning the proposed action should be directed to the FHWA at the address provided above or directed to: Ms. Jennifer Harris, P.E., Staff Engineer, North Carolina Turnpike Authority, at 5400 Glenwood Avenue, Suite 400, Raleigh, North Carolina 27612. Telephone: (919) 571-3000. E-mail: sewake@ncturnpike.org.

(Catalog of Federal Domestic Assistance Program Number 20.205, Highway Research, Planning and Construction. The regulations implementing Executive Order 12372 regarding intergovernmental consultation of Federal programs and activities apply to this program.)

Issued on: November 23, 2009.
George Hoops,
Major Projects Engineer, Federal Highway Administration, Raleigh, North Carolina.

[FR Doc. E9-28626 Filed 11-27-09; 8:45 am]

BILLING CODE 4910-22-P